DEPARTMENT OF TRANSPORTATION

Federal Aviation Administration

14 CFR Part 71

[Docket No. FAA-2003-14352; Airspace Docket No. 00-AGL-25]

Modification of Class E Airspace; Hazen, ND

AGENCY: Federal Aviation Administration (FAA), DOT.

ACTION: Final rule.

SUMMARY: This action modifies Class E airspace at Hazen, ND. An Area Navigation (RNAV) Standard Instrument Approach Procedure (SIAP) to Runway 14, and an RNAV SIAP to Rwy 32 have been developed for Mercer County Regional Airport. Controlled airspace extending upward from 700 feet or more above the surface is needed to contain aircraft executing these approaches. This action increases the size of the existing Class E airspace for Hazen, ND.

EFFECTIVE DATE: 0901 UTC, May 15, 2003.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Friday, October 6, 2000, the FAA proposed to amend 14 CFR part 71 to modify Class E airspace at Hazen, ND (65 FR 59763). The proposal was to modify controlled airspace extending upward from 700 feet above the surface to contain aircraft executing instrument approach procedures.

Interested parties were invited to participate in this rulemaking proceeding by submitting written comments on the proposal to the FAA. Nineteen (19) commenters responded to this proposed airspace action. All nineteen (19) were objections, and were based on concerns dealing with the need for, or objecting to, added regulations and restrictions. The following concerns were raised:

A. Added FAA rules and regulations are unnecessary and unwanted in this region.

Of the nineteen (19) commenters, ten (10) stated they wanted no more restrictions imposed on their ability to conduct VFR flight.

B. The expansion of Class E airspace would limit the ability for VFR flight.

Of the nineteen (19) commenters, seventeen (17) felt this would adversely affect aviation, quality of life, and the economy. No specifics as to the impact on the economy were documented.

C. The expansion of Class E airspace will reduce safety.

Of the nineteen (19) commenters, eight (8) stated that expanding the overall Class E airspace as proposed, would cause an increase in flights where radar coverage is limited, thus reducing safety. All of these comments were considered and evaluated. They are responded to as follows:

In reference to concern A:

The increase in the area of Class E airspace, is necessary to ensure IFR aircraft are protected from VFR aircraft, while conducting instrument approach procedures. This is accomplished by requiring higher reported visibility in order to conduct VFR flight within the Class E airspace. The transition from Class G to Class E airspace, will require. increased visibility only for VFR flight above 1200 feet AGL. VFR flight visibility requirements for flights below this altitude remain unchanged. Cloud distance requirements for VFR flights also remain unchanged. In addition, there are only three (3) relatively small areas that will transition from Class G to Class E airspace. Unless a VFR flight was conducted exclusively in these three (3) existing areas of Class G airspace, the higher visibility requirements already exist. This is because they are surrounded by existing Class E airspace. The added restrictions are minimal.

In reference to concern B:

Although in certain areas the visibility requirements for VFR flight will increase, flight under VFR conditions is not prohibited. The comments on adversely affecting quality of life, and the economy are undefined, and beyond the scope of this airspace action.

In reference to concern C:

Establishing or modifying Class E airspace does not automatically lead to increased aircraft operations. Radar coverage in this area has no bearing or impact on IFR flights conducted in this airspace because aircraft are separated and protected by ATC non-radar procedures. Separation and protection between IFR and VFR aircraft is accomplished by visibility requirements for the VFR aircraft. Safety would actually be enhanced as a result of the larger radius of protected airspace surrounding Mercer County Airport.

Class E airspace designation for areas extending upward from 700 feet or more above the surface of the earth are published in paragraph 6005 of FAA Order 7400.9K dated August 30, 2002, and effective September 16, 2002, which is incorporated by reference in 14 CFR 71.1. The Class E airspace designations listed in this document will be published subsequently in the Order.

The Rule

This amendment to 14 CFR part 71 modifies Class E airspace at Hazen, ND, to accommodate aircraft executing instrument flight procedures into and out of Mercer County Regional Airport. The area will be depicted on appropriate aeronautical charts.

The FAA has determined that this regulation only involves an established body of technical regulations for which frequent and routine amendments are necessary to keep them operationally current. Therefore, this regulation—(1) Is not a “significant regulatory action” under Executive Order 12866, (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR, 1959-1963 Comp., p. 389.

§ 71.1 [Amended]

2. The incorporation by reference in 14 CFR 71.1 of the Federal Aviation Administration Order 7400.9K, Airspace Designations and Reporting Points, dated August 30, 2002, and effective September 16, 2002, is amended as follows:

* * * * *

Paragraph 6005 Class E airspace areas extending upward from 700 feet or more above the surface of the earth.

* * * * *

AGL ND E5 Hazen, ND [Revised]

Hazen, Mercer County Regional Airport, ND

(Lat. 47°17′24″ N, long. 101°34′51″ W)

Dickinson VORTAC

(Lat. 46°51′36″ N, long. 102°46′25″ W)

Williston VORTAC

(Lat. 48°15′12″ N, long. 103°45′02″ W)

That airspace extending upward from 700 feet above the surface within a 10.0-mile radius of the Mercer County Regional Airport, and that airspace extending upward from 1200 feet above the surface bounded on the northwest by a line beginning at V439, thence counterclosckwise along the Williston VORTAC 60.0-mile radius V71, thence northwest along V71 to the Williston VORTAC 39.2-mile radius to the 48°00′00″ N. latitude, on the north by the lat. 48°00′00″ N., on the east by the long. 100°44′02″ W., on the southeast by V169, on the south by lat. 46°10′00″ N., on the southwest by a line from 46°10′00″ N., long. 102°24′00″ W., to lat. 46°20′00″ N., long. 102°44′00″ W., on the west by V491, thence east along V2 to the Dickinson VORTAC 25.2-mile radius, thence counterclockwise along the Dickinson VORTAC 25.2-mile radius to V439, thence to the point of beginning, excluding that airspace within the Minot AFB, ND, Dickinson, ND, and Bismarck, ND, Class E airspace areas, and excluding all Federal Airways.

* * * * *

Issued in Des Plaines, Illinois, on March 5, 2003.
Richard K. Peterson
Assistant Manager, Air Traffic Division, Great Lakes Region.

[FR Doc. 03-7662 Filed 3-28-03; 8:45 am]

BILLING CODE 4910-13-M